DEPARTMENT OF ENERGY

Federal Energy Regulatory Commission

[Project No. 13625-003; Project No. 14504-000]

Lock+ Hydro Friends Fund XXX, LLC; FFP Project 121, LLC; Notice of Competing Preliminary Permit Applications Accepted for Filing and Soliciting Comments, Motions To Intervene, and Competing Applications

Lock+ Hydro Friends Fund XXX, LLC and FFP Project 121, LLC filed preliminary permit applications pursuant to section 4(f) of the Federal Power Act proposing to study the feasibility of a hydropower project, to be located at the existing New Cumberland Locks and Dam on the Ohio River, near the town of New Cumberland, Hancock County, West Virginia and Jefferson County, Ohio. Both applications were filed electronically and given the filing date of March 1, 2013, at 8:30 a.m.¹ New Cumberland Locks and Dam is owned by the United States government and operated by the United States Army Corps of Engineers. The sole purpose of a preliminary permit, if issued, is to grant the permit holder priority to file a license application during the permit term. A preliminary permit does not authorize the permit holder to perform any land-disturbing activities or otherwise enter upon lands or waters owned by others without the owner's express permission.

¹ The Commission is open each day, except Saturdays, Sundays, and holidays, from 8:30 a.m. to 5:00 p.m. See 18 CFR 375.101(c) (2012). The two applications were filed between 5:00 p.m. on April 30, 2012 and 8:30 a.m. on March 1, 2013. Under the Commission's Rules of Practice and Procedure, any document received after regular business hours is considered filed at 8:30 a.m. on the next regular business day. See id. at 385.2001(a)(2).

Lock+ Hydro Friends Fund XXX, LLC's application is for a successive preliminary permit. Its proposed project would consist of: (1) One new concrete-lined power canal; (2) one new approximately 260-foot-wide, 56-foot-high lock frame module, containing 17 turbines each having a nameplate capacity of 1.5 megawatts (MW), with a total installed capacity of 25.5 MW; (3) new flow control doors; (4) a new tailrace 260 feet wide by 250 feet long; (5) a new switchyard, transformer, and control room; (6) a new approximately 2,000-foot-long, 69-kilovolt (kV) transmission line from the new switchyard to an existing distribution line; and (7) appurtenant facilities. The project would have an estimated annual generation of 145,850 megawatt-hours.

Applicant Contact: Mr. Mark Stover, 900 Oakmont Lane, Suite 301, Westmont, IL 60559; (877) 556-6566 extension 711.

FFP Project 121, LLC's proposed project would consist of: (1) A new 250-foot-wide by 380-foot-long forebay; (2) a new 220-foot by 250-foot reinforced concrete powerhouse; (3) three new 16.6-MW horizontal bulb turbine-generators having a total combined generating capacity of 49.8 MW; (4) a new 300-foot-long concrete retaining wall downstream of the powerhouse; (5) a new 300-foot-wide by 515-foot-long tailrace area; (6) a new 60-foot-wide by 60-foot-long substation; (7) a new 0.8-mile-long, 36.7-kV transmission line; and (8) appurtenant facilities. The project would have an estimated annual generation of 251,600 megawatt-hours.

Applicant Contact: Daniel Lissner, 239 Causeway Street, Suite 300, Boston, MA 02114; (978) 252-7111.

FERC Contact: Tim Looney, (202) 502-6096.

Deadline for filing comments, motions to intervene, and competing applications (without notices of intent) or notices of intent to file competing applications for Project No. 13625: 60 days from the issuance of this notice.² Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

² On March 19, 2013, the Commission mistakenly issued public notice of only FFP Project 121, LLC's preliminary permit application. That notice established a deadline of May 20, 2013 for filing comments, motions to intervene, competing applications (without notices of intent), and notices of intent to file competing applications. The filing deadline for both dockets is now extended to 60 days from the issuance of this notice.

More information about these projects, including a copy of either application can be viewed or printed on the “eLibrary” link of the Commission's Web site at http://www.ferc.gov/docs-filing/elibrary.asp. Enter the docket number (P-13625 or P-14504) in the docket number field to access the documents. For assistance, contact FERC Online Support.

Dated: May 30, 2013.
Kimberly D. Bose,
Secretary.

[FR Doc. 2013-13395 Filed 6-5-13; 8:45 am]

BILLING CODE 6717-01-P